DEPARTMENT OF TRANSPORTATION

Federal Aviation Administration

14 CFR Part 39

[Docket No. FAA-2012-0333; Directorate Identifier 2011-NM-085-AD; Amendment 39-17011; AD 2012-07-05]

RIN 2120-AA64

Airworthiness Directives; Fokker Services B.V. Airplanes

AGENCY: Federal Aviation Administration (FAA), Department of Transportation (DOT).

ACTION: Final rule; request for comments.

SUMMARY: We are adopting a new airworthiness directive (AD) for certain Fokker Services B.V. Model F.27 Mark 050 airplanes. This proposed AD would require performing a low frequency eddy current inspection for cracks of the lap joint of the rear fuselage, and repair if necessary. This AD was prompted by reports of cracking in the fuselage lap joint. We are issuing this AD to detect and correct exponential crack growth, which could lead to failure of the lap joint over a certain length and consequent in-flight decompression of the airplane.

DATES: This AD becomes effective April 25, 2012.

The Director of the Federal Register approved the incorporation by reference of the service information listed in the AD as of April 25, 2012.

We must receive comments on this AD by May 25, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

The European Aviation Safety Agency (EASA), which is the Technical Agent for the Member States of the European Community, has issued EASA Airworthiness Directive 2011-0064, dated April 7, 2011 (referred to after this as “the MCAI”), to correct an unsafe condition for the specified products. The MCAI states:

One operator reported a clearly visible crack in a fuselage lap joint, just forward of the ice protection plate in the forward fuselage. During a subsequent review of fatigue lives of lap joints in general, a critical location was found at a skin cut-out for a water service panel in the rear fuselage. Analysis by Fokker Services shows that at this specific location, due to the high local loads, cracks can occur from about 47,000 flight cycles (FC) in the inner skin. The outer skin will cover a crack in the inner skin and a crack will therefore not be visible.

This condition, if not detected and corrected, can result in an exponential crack growth rate, possibly leading to failure of the lap joint over a certain length and consequent in-flight decompression of the aeroplane.

For the reasons described above, this [EASA] AD requires a one-time low-frequency eddy current inspection of the lap joint for cracks and, depending on findings, repair of the lap-joint. This [EASA] AD also requires sending an inspection report (even when no cracks are found) to the TC [type certificate] holder to confirm the selected inspection threshold for aeroplanes that have not yet accumulated 45,000 FC, as well as the inspection interval. The repetitive inspection task will be introduced in a future revision of the Fokker 50/60 Maintenance Review Board (MRB) Document.

Repair of the lap joint constitutes terminating action for the repetitive inspections. In addition, the terminating action can also be applied before the initial inspection is required, thereby preventing the need for inspection altogether.

You may obtain further information by examining the MCAI in the AD docket.

Relevant Service Information

Fokker Services B.V. has issued Service Bulletin SBF50-53-061, dated January 13, 2011; and Service Bulletin SBF50-53-062, dated January 13, 2011. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0333; Directorate Identifier 2011-NM-085-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-07-05 Fokker Services B.V.: Amendment 39-17011. Docket No. FAA-2012-0333; Directorate Identifier 2011-NM-085-AD.

(a) Effective Date

This airworthiness directive (AD) becomes effective April 25, 2012.

(b) Affected ADs

None.

(c) Applicability

This AD applies to Fokker Services B.V. Model F.27 Mark 050 airplanes; certificated in any category; serial numbers 20103 through 20252 inclusive, 20254 through 20267 inclusive, 20270 through 20279 inclusive, 20281, 20283 through 20286 inclusive, 20288 through 20317 inclusive, 20328, 20331, 20333, and 20335; except those that have already been modified in accordance with Fokker Service Bulletin SBF50-53-062.

(d) Subject

Air Transport Association (ATA) of America Code 53: Fuselage.

(e) Reason

This AD was prompted by reports of cracking in the fuselage lap joint. We are issuing this AD to detect and correct exponential crack growth, which could lead to failure of the lap joint over a certain length and consequent in-flight decompression of the airplane.

(f) Compliance

You are responsible for having the actions required by this AD performed within the compliance times specified, unless the actions have already been done.

(g) Inspection

Within the applicable times specified in paragraphs (g)(1), (g)(2), or (g)(3) of this AD: Do a low frequency eddy current (LFEC) inspection for cracks of the lap joint of the rear fuselage, in accordance with the Accomplishment Instructions of Fokker Service Bulletin SBF50-53-061, dated January 13, 2011.

(1) For airplanes that have accumulated 47,000 total flight cycles or more as of the effective date of this AD: Within 3 months after the effective date of this AD.

(2) For airplanes that have accumulated more than 46,000 total flight cycles but less than 47,000 total flight cycles as of the effective date of this AD: Within 6 months after the effective date of this AD.

(3) For airplanes that have accumulated more than 45,000 total flight cycles but less than or equal to 46,000 total flight cycles as of the effective date of this AD: Within 12 months after the effective date of this AD.

(h) Corrective Action

If any crack is found during the LFEC inspection required by paragraph (g) of this AD, before further flight, repair the lap joint in accordance with the Accomplishment Instructions of Fokker Service Bulletin SBF50-53-062, dated January 13, 2011.

(i) Reporting Requirement

Submit a report of the findings (both positive and negative) of the inspection required by paragraph (g) of this AD to Fokker Services B.V., Technical Services, in accordance with the instructions of Figure 6 of Fokker Service Bulletin SBF50-53-061, dated January 13, 2011, at the applicable time specified in paragraph (i)(1) or (i)(2) of this AD.

(1) If the inspection was done on or after the effective date of this AD: Submit the report within 30 days after the inspection.

(2) If the inspection was done before the effective date of this AD: Submit the report within 30 days after the effective date of this AD.

(j) Optional Terminating Action

Repairing the lap joint in accordance with the Accomplishment Instructions of Fokker Service Bulletin SBF50-53-062, dated January 13, 2011, terminates the action required by paragraph (g) of this AD provided that the action is accomplished within the applicable compliance time specified in paragraph (g) of this AD.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

Refer to Mandatory Continuing Airworthiness Information (MCAI) European Aviation Safety Agency (EASA) AD 2011-0064, dated April 7, 2011; Fokker Service Bulletin SBF50-53-061, dated January 13, 2011; and Fokker Service Bulletin SBF50-53-062, dated January 13, 2011; for related information.

(m) Material Incorporated by Reference

(1) You must use the following service information to do the actions required by this AD, unless the AD specifies otherwise. The Director of the Federal Register approved the incorporation by reference (IBR) of the following service information under 5 U.S.C. 552(a) and 1 CFR part 51:

(i) Fokker Service Bulletin SBF50-53-061, dated January 13, 2011.

(ii) Fokker Service Bulletin SBF50-53-062, dated January 13, 2011.

(2) For Fokker Services B.V. service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 28, 2012.
Kalene C. Yanamura,
Acting Manager, Transport Airplane Directorate, Aircraft Certification Service.

[FR Doc. 2012-8218 Filed 4-9-12; 8:45 am]

BILLING CODE 4910-13-P